DEPARTMENT OF COMMERCE

International Trade Administration

[A-489-829]

Steel Concrete Reinforcing Bar From the Republic of Turkey: Final Results of Antidumping Duty Administrative Review; 2017-2018

AGENCY: Enforcement and Compliance, International Trade Administration, Department of Commerce.

SUMMARY: The Department of Commerce (Commerce) determines that mandatory respondents, Icdas Celik Enerji Tersane ve Ulasim Sanayi A.S. (Icdas) and Kaptan Demir Celik Endüstrisi ve Ticaret A.S. (Kaptan Demir) did not make sales of steel concrete reinforcing bar (rebar) from the Republic of Turkey (Turkey) at less than normal value (NV) during the period of review (POR), March 7, 2017 through June 30, 2018.

DATES: Applicable March 19, 2020.

FOR FURTHER INFORMATION CONTACT: Thomas Dunne or Kathryn Wallace, AD/CVD Operations, Office IV, Enforcement and Compliance, International Trade Administration, U.S. Department of Commerce, 1401 Constitution Avenue NW, Washington, DC 20230; telephone: (202) 482-2328 or (202) 482-6251, respectively.

SUPPLEMENTARY INFORMATION:

Background

Commerce published the Preliminary Results on September 16, 2019.¹ On January 30, 2020, Commerce issued the Post-Preliminary Particular Market Situation (PMS) Memorandum, finding that a PMS did not exist with respect to the Turkish billet market during the POR.² On February 11 and 18, 2020, we received case and rebuttal briefs, respectively, from interested parties.³ Commerce conducted this administrative review in accordance with section 751(a) of the Tariff Act of 1930, as amended (the Act). For details concerning the events subsequent to the Preliminary Results, including the issuance of the Post-Preliminary PMS Memorandum, see the Issues and Decision Memorandum.⁴

¹ See Steel Concrete Reinforcing Bar from the Republic of Turkey: Preliminary Results of Antidumping Duty Administrative Review; 2017-2018, 84 FR 68884 (September 16, 2019) (Preliminary Results), and accompanying Preliminary Decision Memorandum.

² See Memorandum, “Antidumping Duty Administrative Review of Steel Concrete Reinforcing Bar from the Republic of Turkey: Post-Preliminary Decision Memorandum on Particular Market Situation Allegation,” dated January 30, 2020 (Post-Preliminary PMS Memorandum).

³ See Kaptan Demir's Letter, “Steel Concrete Reinforcing Bar from Turkey: Kaptan Case Brief,” dated February 11, 2020; Icdas's Letter, “Steel Concrete Reinforcing Bar from the Republic of Turkey: Icdas Case Brief,” dated February 11, 2020; Petitioner's Letter, “Steel Concrete Reinforcing Bar from the Republic of Turkey: Petitioner's Case Brief,” dated February 11, 2020; Icdas's Letter, “Steel Concrete Reinforcing Bar from the Republic of Turkey: Icdas Rebuttal Brief,” dated February 18, 2020; and Petitioner's Letter, “Steel Concrete Reinforcing Bar from the Republic of Turkey: Petitioner's Rebuttal Brief,” dated February 18, 2020.

⁴ See Memorandum, “Issues and Decision Memorandum for the Final Results of the 2017-2018 Administrative Review of the Antidumping Duty Order on Steel Concrete Reinforcing Bar from the Republic of Turkey,” dated concurrently with, and hereby adopted by, this notice (Issues and Decision Memorandum).

Scope of the Order

The product covered by the review is rebar from Turkey. For a full description of the scope, see Appendix I.

Analysis of Comments Received

All issues raised in the case and rebuttal briefs by parties to this administrative review are addressed in the Issues and Decision Memorandum. A list of the issues raised is attached to this notice as Appendix II. The Issues and Decision Memorandum is a public document and is on file electronically via Enforcement and Compliance's Antidumping and Countervailing Duty Centralized Electronic Service System (ACCESS). ACCESS is available to registered users at https://access.trade.gov, and to all parties in the Central Records Unit, Room B8024 of the main Commerce building. In addition, a complete version of the Issues and Decision Memorandum can be accessed directly at http://enforcement.trade.gov/frn/index.html. The signed and electronic versions of the Issues and Decision Memorandum are identical in content.

Changes Since the Preliminary Results

Based on our review of the record and comments received from interested parties, we made the following revisions: ⁵

⁵ See Memoranda, “Analysis for the Final Results: Icdas Celik Enerji Tersane ve Ulasim Sanayi A.S.”; and “Analysis for the Final Results: Kaptan Demir Celik Endüstrisi ve Ticaret A.S.,” both of which are dated concurrently with this Federal Register notice.

• For both Icdas and Kaptan Demir, we relied on actual weight for the calculation of each respondent's estimated weighted-average dumping margin;

• For both Icdas and Kaptan Demir, we revised certain currency calculation errors in the home and U.S. market programs;

• We relied on Icdas's sales to affiliated resellers that passed the arms-length test;

• We revised the USMONTH calculation in Icdas's margin program; and

• We deducted the movement expenses of affiliated resellers from Icdas's normal value.

Final Results of the Administrative Review

We have determined the following weighted-average dumping margins exist for the period March 7, 2017 through June 30, 2018:

Producer or exporter | Estimated weighted- average dumping margin (percent)
Icdas Celik Enerji Tersane ve Ulasim Sanayi A.S | 0.00
Kaptan Demir Celik Endüstrisi ve Ticaret A.S | 0.00
Colakoglu Dis Ticaret A.S | 0.00
Colakoglu Metalurji A.S | 0.00
Habas Sinai ve Tibbi Gazlar Istihsal Endustrisi A.S | 0.00
Kaptan Metal Dis Ticaret ve Nakliyat A.S | 0.00

Rate for Non-Examined Companies

The statute and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available{time}.” However, section 735(c)(5)(B) of the Act states that if the weighted-average dumping margins for all individually examined exporters or producers are zero, de minimis, or based entirely on facts available, then Commerce may use “any reasonable method” to establish the all-others rate, including averaging the weighted-average dumping margins for the individually examined companies.

Consistent with section 735(c)(5)(B) of the Act, we have determined that a reasonable method for determining the weighted-average dumping margin for each of the non-selected companies is to use the average of the weighted-average dumping margin calculated for the mandatory respondents (i.e., Kaptan Demir and Icdas) in this administrative review. Although the weighted-average dumping margins calculated for both Kaptan Demir and Icdas are zero, these are the only rates calculated in this review and, thus, Commerce has determined the weighted-average dumping margin for the non-examined companies to be zero.⁶

⁶ See Certain Lined Paper Products from India: Final Results of Antidumping Duty Administrative Review; 2016-2017, 84 FR 23017 (May 21, 2019)

Disclosure and Public Comment

We intend to disclose the calculations performed to parties in this proceeding within five days after publication of these final results in the Federal Register, in accordance with section 751(a) of the Act and 19 CFR 351.224(b).

Assessment Rates

Upon completion of this administrative review, Commerce shall determine and U.S. Customs and Border Protection (CBP) shall assess antidumping duties on all appropriate entries. Because the weighted-average dumping margins of Kaptan Demir, Icdas, and the four firms not selected for individual examination have been determined to be zero within the meaning of 19 CFR 351.106(c), we will instruct CBP to liquidate the appropriate entries without regard to antidumping duties. In accordance with Commerce's practice, for entries of subject merchandise during the POR for which Kaptan Demir and Icdas did not know that the merchandise was destined for the United States, we will instruct CBP to liquidate such entries at the all-others rate if there is no company-specific rate for the intermediate company(ies) involved in the transaction.⁷ Commerce intends to issue assessment instructions directly to CBP 15 days after publication of these final results of review.

⁷ See Antidumping and Countervailing Duty Proceedings: Assessment of Antidumping Duties, 68 FR 23954 (May 6, 2003).

Cash Deposit Requirements

The following cash deposit requirements will be effective for all shipments of rebar from Turkey entered, or withdrawn from warehouse, for consumption on or after the date of publication of the final results of this administrative review, as provided by section 751(a)(2)(C) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the LTFV investigation, but the producer is, the cash deposit rate will be the rate established for the most recently completed segment of this proceeding for the producer of the subject merchandise; and (4) the cash deposit rate for all other producers or exporters will continue to be 7.26 percent, the all-others rate established in the LTFV investigation.⁸ These cash deposit requirements, when imposed, shall remain in effect until further notice.

⁸ See Steel Concrete Reinforcing Bar from the Republic of Turkey and Japan: Amended Final Affirmative Antidumping Duty Determination for the Republic of Turkey and Antidumping Duty Orders, 82 FR 32532 (July 14, 2017).

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: March 13, 2020.
Jeffrey I. Kessler,
Assistant Secretary for Enforcement and Compliance.

Appendix I

Scope of the Order

The merchandise subject to this review is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject countries or a third country, including but not limited to cutting, grinding, galvanizing, painting, coating, or any other processing that would not otherwise remove the merchandise from the scope of these orders if performed in the country of manufacture of the rebar. Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

Appendix II

List of Topics Discussed in the Issues and Decision Memorandum

I. Summary

II. Background

III. Scope of the Order

IV. Changes Since the Preliminary Results

V. Discussion of the Issues

Comment 1: Whether a Particular Market Situation (PMS) Exists With Respect to the Turkish Billet Market

Comment 2: Whether Commerce Should Revise its Duty Drawback Adjustment

Comment 3: Whether Commerce Should Rely on Theoretical or Actual Weight in the Home market

Comment 4: SAS Programming Errors

Comment 5: Whether Commerce Should Use Contract Date as Icdas's U.S. Date of Sale

Comment 6: Whether Commerce Should Use “Partial” Quarters in its Quarterly Cost Analysis

Comment 7: Whether Commerce Should Reallocate the Cost of Icdas's Short-Length Rebar to Prime Products

Comment 8: Whether Commerce Should Use Icdas's Reported General and Administrative (G&A) and Interest Expense Ratio (INTEX) Expenses

VI. Recommendation

[FR Doc. 2020-05754 Filed 3-18-20; 8:45 am]

BILLING CODE 3510-DS-P